DEPARTMENT OF TRANSPORTATION

Federal Aviation Administration

Second Meeting: RTCA Special Committee 227, Standards of Navigation Performance

AGENCY: Federal Aviation Administration (FAA), U.S. Department of Transportation (DOT).

ACTION: Notice of RTCA Special Committee 227, Standards of Navigation Performance.

SUMMARY: The FAA is issuing this notice to advise the public of the second meeting of RTCA Special Committee 227, Standards of Navigation Performance.

DATES: The meeting will be held May 7-11, 2012, from 9 a.m.-5 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 227. The agenda will include the following:

May 7-11, 2012

• Welcome/Introductions/Administrative Remarks

• Agenda Overview

• Review of SC-227 Workspace Changes/Process, and MASPS/MOPS Workgroup Leadership

• Review Minutes and Action Items

• Update/approve minutes

• Review of NextGen PBN Integrated Portfolio and Strategy Activities

• Review/Discussion/Approval of MASPS Action Items and Proposed Updates

• Subgroup breakouts to finalize updates/changes to proposal

• Plenary discussion/update of updates/changes

• Review of What's Applicable to MOPS

• Other Business

• Establish Agenda for Next Meeting.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 11, 2012.
John Raper,
Manager, Business Operations Branch, Federal Aviation Administration.

[FR Doc. 2012-9193 Filed 4-16-12; 8:45 am]

BILLING CODE 4910-13-P